SECURITIES AND EXCHANGE COMMISSION

17 CFR Part 240

[Release No. 34-86031; File No. S7-07-18]

RIN 3235-AM35

Regulation Best Interest: The Broker-Dealer Standard of Conduct

Correction

In rule document 2019-12164, appearing on pages 33318 through 33492, in the issue of Friday, July 12, 2019 make the following corrections:

1. On page 33491, in the center column, on the tenth line, “240.15l-1” should read, “240.15l-1”.

2. On the same page, in the same column, on the eleventh line, “240.15l-1” should read, “240.15l-1”.

[FR Doc. C1-2019-12164 Filed 8-8-19; 8:45 am]

BILLING CODE 1300-01-D